DEPARTMENT OF THE TREASURY

Fiscal Service

Surety Companies Acceptable on Federal Bonds: Liquidation—United Capitol Insurance Company

AGENCY: Financial Management Service, Fiscal Service, Department of the Treasury.

ACTION: Notice.

SUMMARY: Liquidation of an insurance company formerly certified by this Department as an acceptable surety/reinsurer on Federal bonds.

FOR FURTHER INFORMATION CONTACT: Surety Bond Branch at (202) 874-6850.

SUPPLEMENTARY INFORMATION: United Capitol Insurance Company, an Illinois company, formerly held a Certificate of Authority as an acceptable surety on Federal bonds and was last listed as such at 64 FR 35891, July 1, 1999. The Company's authority was terminated by the Department of the Treasury effective June 29, 2000. Notice of the termination was published in the Federal Register of July 13, 2000, on page 43404.

On November 14, 2001, upon a petition by the Director of Insurance of the State of Illinois, the Circuit Court of Cook County, Illinois issued an Order of Liquidation with respect to United Capitol Insurance Company. Nathaniel S. Shapo, the Director of Insurance of the State of Illinois, was appointed as the Liquidator. All persons having claims against United Capitol Insurance Company must file their claims by February 23, 2004, or be barred from sharing in the distribution of assets.

All claims must be filed in writing and shall set forth the amount of the claim, the facts upon which the claim is based, any priorities asserted, and any other pertinent facts to substantiate the claim. Federal agencies should assert claim priority status under 31 U.S.C. 3713, and send a copy of their claim, in writing, to: Department of Justice, Civil Division, Commercial Litigation Branch, P.O. Box 875, Ben Franklin Station, Washington, DC 20044-0875; Attn: Ms. Jennifer Blackwell, Legal Assistant.

The above office will consolidate and file any and all claims against United Capitol Insurance Company, on behalf of the United States Government. Any questions concerning filing of claims may be directed to Mr. Harwell at (202) 307-0180.

The Circular may be viewed and downloaded through the Internet (http://www.fms.treas.gov/c570). A hard copy may be purchased from the Government Printing Office (GPO), Subscription Service, Washington, DC (202) 512-1800. When ordering the Circular from GPO, use the following stock number 769-004-04643-2.

Questions concerning this notice may be directed to the U.S. Department of the Treasury, Financial Management Service, Financial Accounting and Services Division, Surety Bond Branch, 3700 East-West Highway, Room 6F07, Hyattsville, MD 20782.

Dated: January 21, 2004.
Wanda Rogers,
Director, Financial Accounting and Services Division, Financial Management Service.

[FR Doc. 04-1842 Filed 1-28-04; 8:45 am]

BILLING CODE 4810-35-M